ENVIRONMENTAL PROTECTION AGENCY

[EPA-HQ-OCFO-2024-0048; FRL-12333-01-OMS]

Agency Information Collection Activities; Submission to the Office of Management and Budget for Review and Approval; Comment Request; Promoting Readiness and Enhancing Proficiency To Advance Reporting and Data (PREPARED) Program: Post-Award Reporting and Public Outreach Information Collections (New)

AGENCY: Environmental Protection Agency (EPA).

ACTION: Notice.

SUMMARY: The Environmental Protection Agency (EPA) has submitted an information collection request (ICR), Promoting Readiness and Enhancing Proficiency to Advance Reporting and Data (PREPARED) Program: Post-Award Reporting and Public Outreach Information Collections (EPA ICR Number 2804.01, OMB Control Number 2090-NEW) to the Office of Management and Budget (OMB) for review and approval in accordance with the Paperwork Reduction Act. This is a request for approval of a new collection. Public comments were previously requested via the Federal Register on February 22, 2024, during a 60-day comment period. This notice allows for an additional 30 days for public comments.

DATES: Comments may be submitted on or before November 12, 2024.

ADDRESSES: Submit your comments, referencing Docket ID Number EPA-HQ- OCFO-2024-0048 to EPA online using www.regulations.gov (our preferred method), by email to docket_ocfo@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Alex Valdez, Office of the Chief Financial Officer, Environmental Protection Agency, 1200 Pennsylvania Ave. NW, Washington, DC 20460; email address: valdez.alex@epa.gov; phone: 202-564-1746.

SUPPLEMENTARY INFORMATION: This is a request for approval of a new collection. An agency may not conduct or sponsor, and a person is not required to respond to, a collection of information unless it displays a currently valid OMB control number.

Public comments were previously requested via the Federal Register February 22, 2024, during a 60-day comment period (89 FR 13332). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: To help expand historically underserved and overburdened communities' access to critical resources, the U.S. Environmental Protection Agency (EPA) developed the Promoting Readiness and Enhancing Proficiency to Advance Reporting and Data (PREPARED) Program. The evidence-building technical assistance (TA) providers (thereafter referenced as Providers) will operate in cooperative agreements with EPA to remove barriers and improve access for communities who have applied for or received financial assistance awards to tackle their environmental justice concerns. The Providers will deliver TA and training that is intended to enhance capacity in: grant application and administration, collecting grant related data; meeting federal post-award reporting requirements; project planning/design; and generating information necessary for outcomes assessment, evaluation, and identification of opportunities for improvement. With this Information Collection Request (ICR), EPA seeks authorization to collect post-award information from each Provider to track their progress. Collection of this information enables EPA to assess and manage the PREPARED program, which ensures responsible stewardship of public funds; rigorous evidence-based learning and improvement; and transparent accountability to the American public. This ICR also requests authorization for the Providers to collect input and insights from communities who seek to obtain technical assistance services, as well as stakeholders who have valuable experience and expertise in community engagement and empowerment. These information collections will enable the Providers to document local priorities, needs, and norms to ensure that they develop useful and relevant technical assistance and training services. Furthermore, feedback about these services will enable the Providers to conduct self-assessments to identify best practices and areas for improvement.

Form Numbers: None.

Respondents/affected entities: Recipients of financial assistance awards from the Promoting Readiness and Enhancing Proficiency to Advance Reporting and Data (PREPARED) Program, community members, stakeholders.

Respondent's obligation to respond: Mandatory for grant recipients as per reporting requirements included in EPA regulations 2 CFR parts 200 and 1500, and voluntary for public outreach information collections via surveys and focus groups.

Estimated number of respondents: 12 grant recipients and 4680 members of the public (over 3 years).

Frequency of response: Grant recipients will submit quarterly progress reports. Public outreach information collections (via surveys and focus groups) will occur throughout the life of the PREPARED project, with no more than one response per instrument per respondent.

Total estimated burden: 3,234 hours (per year). Burden is defined at 5 CFR 1320.03(b).

Total estimated cost: $116,142 (per year), there are no annualized capital or operation & maintenance costs.

Changes in the Estimates: This is a new collection.

Courtney Kerwin,
Director, Information Engagement Division.

[FR Doc. 2024-23473 Filed 10-9-24; 8:45 am]

BILLING CODE 6560-50-P